DEPARTMENT OF COMMERCE

National Oceanic and Atmospheric Administration

Ocean Exploration Advisory Board Meeting

AGENCY: Office of Ocean Exploration and Research (OER), National Oceanic and Atmospheric Administration (NOAA), Department of Commerce.

ACTION: Notice of public meeting.

SUMMARY: This notice sets forth the schedule and proposed agenda of a forthcoming meeting of the Ocean Exploration Advisory Board (OEAB). OEAB members will discuss and provide advice on Federal ocean exploration programs, with a particular emphasis on National Oceanic and Atmospheric Administration (NOAA) Office of Ocean Exploration and Research (OER) activities, in the areas of: The U.S. Extended Continental Shelf Project, current and future exploration priorities, NOAA's ocean exploration partnerships, the next National Forum on Ocean Exploration, and other matters as described in the agenda found on the OEAB Web site at http://oeab.noaa.gov.

DATES: The announced meeting is scheduled for Thursday, October 1, 2015 from 8:30 a.m.-5:15 p.m. EDT, and Friday, October 2, 2015 from 8:30 a.m.-12:25 p.m. EDT.

ADDRESSES: The meeting will be held at the University of Rhode Island Graduate School of Oceanography Coastal Institute, Hazards Room 215, South Ferry Road, Narragansett, RI 02882.

Status: The meeting will be open to public participation with a 15-minute public comment period on Friday, October 2, 2015 at 10:15 a.m. EDT (please check the agenda on the Web site to confirm the time). The OEAB expects that public statements at its meetings will not be repetitive of previously submitted verbal or written statements. In general, each individual or group making a verbal presentation will be limited to three minutes. The Designated Federal Officer must receive written comments by September 23, 2015 to provide sufficient time for OEAB review. Written comments received after September 23, 2015 will be distributed to the OEAB but may not be reviewed prior to the meeting date. Seats will be available on a first-come first-served basis.

Special Accomodations: These meetings are physically accessible to people with disabilities. Requests for sign language interpretation or other auxiliary aids should be directed to David McKinnie, Designated Federal Officer, at (206) 526-6950 by September 16, 2015.

FOR FURTHER INFORMATION CONTACT: Mr. David McKinnie, Designated Federal Officer, Ocean Exploration Advisory Board, National Oceanic and Atmospheric Administration, 7600 Sand Point Way NE., Seattle, WA 98115, (206) 526-6950.

SUPPLEMENTARY INFORMATION: NOAA established the OEAB under the Federal Advisory Committee Act (FACA) and legislation that gives the agency statutory authority to operate an ocean exploration program and to coordinate a national program of ocean exploration. The OEAB advises NOAA leadership on strategic planning, exploration priorities, competitive ocean exploration grant programs, and other matters as the NOAA Administrator requests.

OEAB members represent government agencies, the private sector, academic institutions, and not-for-profit institutions involved in all facets of ocean exploration—from advanced technology to citizen exploration.

In addition to advising NOAA leadership, NOAA expects the OEAB to help to define and develop a national program of ocean exploration—a network of stakeholders and partnerships advancing national priorities for ocean exploration.

Dated: September 1, 2015.
Jason Donaldson,
Chief Financial Officer, Office of Oceanic and Atmospheric Research, National Oceanic and Atmospheric Administration.

[FR Doc. 2015-22688 Filed 9-8-15; 8:45 am]

BILLING CODE 3510-KA-P